DEPARTMENT OF COMMERCE

National Oceanic and Atmospheric Administration

Proposed Information Collection; Comment Request; Northwest Region Logbook Family of Forms

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before June 5, 2006.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Becky Renko, 206-526-6110, or at Becky.Renko@noaa.gov.

SUPPLEMENTARY INFORMATION:

I. Abstract

This collection contains certain reporting and recordkeeping requirements for vessels in the Pacific Coast Groundfish Fishery in the Exclusive Economic Zone of the states of Washington, Oregon, and California. These requirements affect processing vessels in the catcher processor, and both processing vessels and catcher boats in the mothership sector of the Pacific whiting fishery. The information collected is needed to monitor catch, effort, and production for fishery management purposes.

II. Method of Collection

Forms are used for most requirements. These may be submitted by computer or by facsimile machine.

III. Data

OMB Number: 0648-0271.

Form Number: None.

Type of Review: Regular submission.

Affected Public: Business or other for-profit organizations.

Estimated Number of Respondents: 50.

Estimated Time Per Response: 13 minutes per day for a Daily Fishing and Cumulative Production Log (DFCPL) from a catcher vessel; 26 minutes per day for a DFCPL from a catcher-processor; 13 minutes per day for a Daily Report of Fish Received and Cumulative Production Log from a mothership; 4 minutes per day for a Weekly/Daily Production Report; 20 minutes for a Product Transfer/Offloading Logbook; and 1 minute for a Start or Stop Notification Report.

Estimated Total Annual Burden Hours: 1,070.

Estimated Total Annual Cost to Public: $9,590.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 30, 2006.
Gwellnar Banks,
Management Analyst, Office of the Chief Information Officer.

[FR Doc. E6-4883 Filed 4-4-06; 8:45 am]

BILLING CODE 3510-22-P